DEPARTMENT OF LABOR

Comment Request for Information Collection for Reintegration of Ex-Offenders-Adult Reporting System, Extension With Program Name Change

AGENCY: Employment and Training Administration, Labor.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data about the extension of the currently approved reporting and recordkeeping system to support the Reintegration of Ex-Offenders-Adult (RExO-Adult) grants, which expires on March 31, 2012.

A copy of the proposed information collection request (ICR) can be obtained by contacting the office listed below in the addressee section of this notice.

DATES: Written comments must be submitted to the office listed in the addressee's section below on or before January 3, 2012.

ADDRESSES: Submit written comments to Employment and Training Administration, 200 Constitution Avenue NW., Washington, DC 20210, Attention: Jenn Smith, Telephone number: (202) 693-3597 (this is not a toll-free number). Fax: (202) 693-3113. Email: smith.jenn@dol.gov.

SUPPLEMENTARY INFORMATION:

I. Background

In applying for the Reintegration of Ex-Offender-Adult (formerly Prisoner Reentry Initiative) grants, faith-based and community organization grantees agree to submit participant data and quarterly aggregate reports for individuals who receive services through RExO-Adult programs and their partnerships with One-Stop Centers, local Workforce Investment Boards, employment providers, the criminal justice system, and local housing authorities. The reports include aggregate data on demographic characteristics, types of services received, placements, outcomes, and follow-up status. Specifically, they summarize data on participants who received employment and placement services, housing assistance, mentoring, and other services essential to reintegrating ex-offenders through RExO-Adult programs.

This requests an extension of the currently approved information collection to meet the reporting and recordkeeping requirements of the Reintegration of Ex-Offenders-Adult grants through an ETA-provided, Web-based Management Information System (MIS). In addition to reporting participant information and performance-related outcomes, RExO-Adult grantees demonstrate their ability to establish effective partnerships with the criminal justice system, local Workforce Investment Boards, local housing authorities, and other partner agencies. They also document the cost effectiveness of their projects.

The MIS reporting and recordkeeping system incorporates each of these aspects necessary for program evaluation.

Five outcome measures are used to measure success in the RExO-Adult grants: entered employment rate, employment retention rate, attainment of a degree or certificate, average six-month post-program earnings, and recidivism rate.

Several of these conform to the common performance measures implemented across federal job training programs as of July 1, 2005. By standardizing the reporting and performance requirements of different programs, the common measures give ETA the ability to compare across programs the core goals of the workforce system—how many people entered jobs; how many stayed employed; and how many successfully completed an educational program. Although the common measures are an integral part of ETA's performance accountability system, these measures provide only part of the information necessary to effectively oversee the workforce investment system. ETA also collects data from RExO-Adult grantees on program activities, participants, and outcomes that are necessary for program management and for conveying full and accurate information on the performance of RExO-Adult programs to policymakers and stakeholders.

This information collection maintains a reporting and record-keeping system for a minimum level of information collection that is necessary to comply with Equal Opportunity requirements, to hold RExO-Adult grantees appropriately accountable for the Federal funds they receive, including common performance measures, and to allow the Department to fulfill its oversight and management responsibilities.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension with program name change.

Title: Reintegration of Ex-offenders-Adult (formerly PRI) Reporting System.

OMB Number: 1205-0455.

Affected Public: Faith-Based and Community Organization grantees.

Form(s):

Total Annual Respondents: 38 Grantees.

Annual Frequency: Quarterly.

Estimated Total Burden Hours
Form/activity | Total respondents | Frequency | Total annual response | Average time per response (hours) | Total annual burden hours
Participant Data Collection | 38 | Continual | 5,700 | 1.8 | 10,260
Quarterly narrative progress report | 38 | Quarterly | 152 | 16 | 2,432
Quarterly performance report | 38 | Quarterly | 152 | 16 | 2,432
Totals | 38 |  | 7,202 |  | 15,124

Comments submitted in response to this comment request will be summarized and/or included in the request for Office of Management and Budget approval of the information collection request; they will also become a matter of public record.

Dated: Signed this 1st day of November 2011.
Jane Oates,
Assistant Secretary, Employment and Training Administration.

[FR Doc. 2011-28646 Filed 11-3-11; 8:45 am]

BILLING CODE 4510-FT-P